DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Rockfish Program: Permits and Reports.

OMB Control Number: 0648-0545.

Form Number(s): None.

Type of Request: Regular (revision and extension of a currently approved information collection).

Number of Respondents: 9.

Average Hours per Response: Application for Rockfish Cooperative Fishing Quota (CQ), 2 hours; Application for Inter-Cooperative Transfer of Rockfish CQ and Rockfish Volume & Value Report, 30 minutes; Annual Rockfish Cooperative Report, 40 hours; Vessel Check-in/Check-out & Termination Report and Rockfish Fee Payment, 10 minutes each.

Burden Hours: 498.

Needs and Uses: This request is for revision and extension of a currently approved information collection.

The Rockfish Program determines the access and allocation of the Central Gulf of Alaska (GOA) rockfish fisheries and associated halibut prohibited species catch (PSC), also known as the rights of access to the fishery. Cooperatives were established to receive exclusive harvest privileges for rockfish primary and secondary species. These resource allocations are used to assign the available resources in an economic way. In the case of halibut, a specific amount of halibut mortality is assigned to the cooperative, because halibut is often caught incidentally with rockfish.

The rockfish fisheries are conducted in Federal waters near Kodiak, Alaska, primarily by trawl vessels, and to a lesser extent by longline vessels. The Rockfish Program allocates harvest privileges to holders of License Limitation Program (LLP) licenses with a history of Central GOA rockfish landings associated with those licenses.

Revision: Two forms that are no longer applicable have been removed, and one has been added.

Affected Public: Business or other for-profit organizations.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 13, 2015.
Glenna Mickelson,
Management Analyst, Office of the Chief Information Officer.

[FR Doc. 2015-00631 Filed 1-15-15; 8:45 am]

BILLING CODE 3510-22-P